Title 3—

The President

Proclamation 8705 of September 1, 2011

National Childhood Cancer Awareness Month, 2011

By the President of the United States of America

A Proclamation

Across America, thousands of courageous children fight pediatric cancer each year, facing life-threatening battles that would challenge men and women of any age. They are cared for by loving families, friends, and communities who band together to support children in times of great need. From raising money for research and hospital stays to offering compassionate assistance to families who have lost loved ones, Americans are working every day to combat childhood cancer.

Today, research advances have made pediatric cancer more treatable than ever before. The five-year survival rate for young patients has risen to 80 percent in the past half century, but serious challenges remain. Children who survive cancer frequently struggle with significant complications later in life and researchers are working to develop treatments specifically for pediatric cancer. We still know too little about the causes in young people, and cancer remains the leading cause of death by disease for children in America under the age of 15.

As we work to better understand and combat these destructive diseases, my Administration is working to lift some of the burden on families affected by them. Because of the Affordable Care Act, insurance companies can no longer deny insurance to children because of pre-existing conditions, meaning that children who are currently suffering from or have survived cancer must be covered. Insurance companies are also banned from rejecting insurance for children participating in clinical studies, in which the vast majority of children with cancer take part. And the Affordable Care Act prohibits insurance companies from imposing lifetime dollar limits on health benefits—freeing cancer patients and their families from worry of long-term treatment affordability. Meanwhile, the National Cancer Institute continues to conduct and fund research on the causes of these diseases, linking research on genetics and adult cancers to more effective treatments for children.

Too many children and their families have faced the harmful effects of cancer. In memory of the young lives taken from us far too soon, and in honor of the families who stood beside them, we continue to support researchers, doctors, and advocates working to improve treatments, find cures, and reach a tomorrow where all our children can lead full and healthy lives.

NOW, THEREFORE, I, BARACK OBAMA, President of the United States of America, by virtue of the authority vested in me by the Constitution and the laws of the United States, do hereby proclaim September 2011 as National Childhood Cancer Awareness Month. I also encourage all Americans to join me in reaffirming our commitment to fighting childhood cancer.

IN WITNESS WHEREOF, I have hereunto set my hand this first day of September, in the year of our Lord two thousand eleven, and of the Independence of the United States of America the two hundred and thirty-sixth.

[FR Doc. 2011-23060

Filed 9-6-11; 11:15 am]

Billing code 3195-W1-P